INTERNATIONAL TRADE COMMISSION

[Investigation Nos. 701-TA-692 and 731-TA-1628 (Final)]

Certain Pea Protein From China

Determinations

On the basis of the record ¹ developed in the subject investigations, the United States International Trade Commission (“Commission”) determines, pursuant to the Tariff Act of 1930 (“the Act”), that an industry in the United States is materially injured by reason of imports of certain pea protein from China, provided for in subheadings 2106.10.00, 3504.00.10, 3504.00.50, and 2308.00.98 of the Harmonized Tariff Schedule of the United States, that have been found by the U.S. Department of Commerce (“Commerce”) to be sold in the United States at less than fair value (“LTFV”), and imports of the subject merchandise from China that have been found to be subsidized by the government of China.2 3 4

¹ The record is defined in § 207.2(f) of the Commission's Rules of Practice and Procedure (19 CFR 207.2(f)).

² 89 FR 55557 and 55559 (July 5, 2024).

³ Commissioner David S. Johanson determined that a U.S. industry is threatened with material injury by reason of subject imports from China.

⁴ The Commission also finds that imports subject to Commerce's affirmative critical circumstances determination are likely to undermine seriously the remedial effect of the countervailing and antidumping duty orders on certain pea from China. Commissioner Rhonda K. Schmidtlein makes negative critical circumstances determinations in the antidumping and countervailing duty investigations. Commissioner Johanson did not assess critical circumstances because he finds that the domestic industry is threatened with material injury and does not determine that the industry in the U.S. is materially injured.

Background

The Commission instituted these investigations effective July 12, 2023, following receipt of petitions filed with the Commission and Commerce by Puris Proteins, LLC, Minneapolis, Minnesota. The final phase of the investigations was scheduled by the Commission following notification of preliminary determinations by Commerce that imports of certain pea protein from China were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on March 5, 2024 (89 FR 15895). The Commission conducted its hearing on June 25, 2024. All persons who requested the opportunity were permitted to participate.

The Commission made these determinations pursuant to §§ 705(b) and 735(b) of the Act (19 U.S.C. 1671d(b) and 19 U.S.C. 1673d(b)). It completed and filed its determinations in these investigations on August 15, 2024. The views of the Commission are contained in USITC Publication 5529 (August 2024), entitled Certain Pea Protein from China: Investigation Nos. 701-TA-692 and 731-TA-1628 (Final).

By order of the Commission.
Issued: August 15, 2024.
Lisa Barton,
Secretary to the Commission.

[FR Doc. 2024-18715 Filed 8-20-24; 8:45 am]

BILLING CODE 7020-02-P